DEPARTMENT OF JUSTICE

Notice of Lodging of Proposed Consent Decree Under the Clean Air Act

On July 13, 2023, the Department of Justice lodged a proposed consent decree with the United States District Court for the Northern District of New York in United States v. Upstate Shredding, LLC, and Weitsman Shredding, LLC, 3:23-cv-847 (N.D.N.Y).

The United States filed a complaint against Upstate Shredding, LLC and Weitsman Shredding, LLC (“Upstate”) under section 113(a)(1) of the Clean Air Act, 42 U.S.C. 7413(a)(1), and the New York state implementation plan. In the complaint, the United States seeks injunctive relief and civil penalties arising from alleged excess emissions of volatile organic compounds at the defendants' metal shredding facility in Owego, NY. The proposed consent decree requires the defendants to pay a civil penalty of $400,000, plus interest accruing from the date of entry to the payment date; and to install pollution control technology to limit future emissions of volatile organic compounds.

The publication of this notice opens a period for public comment on the consent decree. Comments should be addressed to the Assistant Attorney General, Environment and Natural Resources Division, and should refer to United States v. Upstate Shredding, LLC, and Weitsman Shredding, LLC, D.J. Ref. No. 90-5-2-1-12564. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon email request to pubcomment-ees.enrd@usdoj.gov.

Henry S. Friedman,
Assistant Section Chief, Environmental Enforcement Section, Environment and Natural Resources Division.

[FR Doc. 2023-15513 Filed 7-20-23; 8:45 am]

BILLING CODE 4410-15-P